DEPARTMENT OF EDUCATION

[Docket No.: ED-2024-SCC-0032]

Agency Information Collection Activities; Comment Request; School Pulse Panel 2024-25 Data Collection Activities

AGENCY: Institute of Education Sciences (IES), Department of Education (ED).

ACTION: Notice.

SUMMARY: In accordance with the Paperwork Reduction Act (PRA) of 1995, the Department is proposing a revision of a currently approved information collection request (ICR).

DATES: Interested persons are invited to submit comments on or before April 29, 2024.

ADDRESSES: To access and review all the documents related to the information collection listed in this notice, please use https://www.regulations.gov by searching the Docket ID number ED-2024-SCC-0032. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Carrie Clarady, 202-245-6347.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: School Pulse Panel 2024-25 Data Collection Activities.

OMB Control Number: 1850-0969.

Type of Review: A revision of a currently approved ICR.

Respondents/Affected Public: State, Local, and Tribal Governments.

Total Estimated Number of Annual Responses: 53,955.

Total Estimated Number of Annual Burden Hours: 10,175.

Abstract: The School Pulse Panel (SPP) is a data collection that was originally designed to collect voluntary responses from a nationally representative sample of public schools to better understand how schools, students, and educators were responding to the ongoing stressors of the coronavirus pandemic. Due to the immediate need to collect information from schools during the pandemic to satisfy the requirement of Executive Order 14000, an emergency clearance was issued to develop and field the first several monthly collections of the SPP in 2021 and a full review of the SPP data collection was performed under the traditional clearance review process in 2022 (OMB# 1850-0969). SPPs innovative design and timely dissemination of findings have been used and cited frequently among Department of Education senior leadership, the White House Domestic Policy Council, the USDA's Food and Nutrition Service, the Centers for Disease Control and Prevention, Congressional deliberations, and the media. The ongoing, growing interest by stakeholders resulted in the request for dedicated funding to create an established NCES quick-turnaround data collection vehicle to become a mainstay for NCES. Funding for a mainstay collection was approved in late 2022, and NCES conducted a new collection during the 2023-24 school year. The purpose of this request is for a full review of the 2024-25 SPP data collection under the traditional clearance review process.

For the 2024-25 school year, the survey will ask school staff about a wide range of topics, including, but not limited to, staffing, learning recovery, tutoring, usage of federal funds, facilities, transportation, school environment issues, and overall principal and staff experiences, in addition to repeating items from the previous collections. It is planned that some new content will be rotated in (and some rotated out) monthly. This package includes details regarding the methodology and operations, as well as potential content areas and an item bank of potential items that can be asked any month.

The School Pulse Panel study is one of the few reliable, nationally representative, quick-turnaround studies that produces data on U.S. public schools. The sample design for the 2024-25 collection will roughly be the same as the 2023-24 collection, with 4,000 public elementary, middle, high, and combined-grade schools in an initial sample and 4,000 public elementary, middle, high, and combined-grade schools in a reserve sample. These schools will be selected via a random stratified sampling approach.

This submission will undergo a 60-day public comment period, followed by an additional 30-day public comment period. We continue to make revisions to the communication materials (Appendix A) and will present final versions for the 30-day comment period. Items in the Item Bank (Appendix B) that have not already been approved are consider draft and will undergo cognitive testing and revision before final administration. Final instruments for the August, September, and October 2024 surveys (Appendix C1) will be added to this package during the 30-day public comment, to be posted in late spring 2024. Final items will be submitted to OMB through a change request. Subsequent quarterly instruments will also be posted for 30-day comment in the months immediately preceding their administration, potentially followed by change requests to allow for small changes in items as deemed necessary by cognitive testing.

Dated: February 23, 2024.
Stephanie Valentine,
PRA Coordinator, Strategic Collections and Clearance Governance and Strategy Division, Office of Chief Data Officer, Office of Planning, Evaluation and Policy Development.

[FR Doc. 2024-04101 Filed 2-27-24; 8:45 am]

BILLING CODE 4000-01-P